DEPARTMENT OF DEFENSE

Office of the Secretary

Designation of Local Redevelopment Authority or Former Fort Ritchie Military Reservation

AGENCY: Office of Economic Adjustment, DOD

ACTION: Notice.

SUMMARY: This Notice provides the point of contact, address, and telephone number for the Local Redevelopment Authority (LRA) responsible for developing the redevelopment plan for the Fort Ritchie Military Reservation, Cascade, Maryland; and for directing the implementation of such plan. Representatives of state and local governments interested in reuse of the installation should contact the organization listed. The following information will be published in a newspaper of general circulation in the communities in the vicinity of Fort Ritchie.

Installation Name: Fort Ritchie Military Reservation.

LRA Name: PENMAR Development Corporation.

Point of Contact: Mr. Richard Rook, Executive Director.

Address: P.O. Box 699, Cascade, MD 21719.

Phone: (301) 241-4050.

Effective Date: July 22 2003.

FOR FURTHER INFORMATION CONTACT: Director, Office of Economic Adjustment, 400 Army Navy Drive, Suite 200, Arlington, VA 22202, (703) 604-6020.

Dated: July 15, 2003.
Patricia L. Toppings,
Alternate OSD Federal Register Liaison Officer, Department of Defense.

[FR Doc. 03-18507 Filed 7-21-03; 8:45 am]

BILLING CODE 5001-08-M